DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Assessment of Soy Unica Materials—New—By the year 2025 almost one in four children will be of Hispanic/Latino origin. Hispanic girls currently make up 16.2 percent of the total number of American girls. Serious threats to the well-being of American girls—pregnancy, depression, suicide attempts, alcohol and drug abuse, and delinquency—are more prevalent among Hispanic girls than among non-Hispanic White or African-American peers. Hispanic girls also have higher school dropout rates than non-Hispanic White, African-American or Asian-American girls. Studies have shown that depression and low self-esteem are strongly linked to risky behaviors among girls. Despite the fact that threats to health and well-being are highest for Hispanic girls, fewer prevention or treatment services reach them than reach girls in any other racial or ethnic group. Phase II of the Substance Abuse and Mental Health Services Administration's (SAMHSA) Hispanic/Latino Initiative, ¡Soy Unica! ¡Soy Latina!, was developed in response to a need for a national, comprehensive, multimedia bilingual campaign that addresses the mental health needs of Hispanic/Latinas aged 9-14.

The ¡Soy Unica! ¡Soy Latina! campaign is designed to help Latinas ages 9-14 build and enhance their self-esteem, mental health, and decision-making and assertiveness skills, and to prevent the harmful consequences of alcohol, tobacco, and illicit drugs. The secondary target audience are mothers and caregivers of girls ages 9-14. The dissemination of these materials was initiated in October 2001 through SAMHSA's National Clearinghouse for Alcohol and Drug Information (NCADI). This public education campaign has the following components in both English and Spanish: Poster for Latinas ages 9-11 called Rainbow Road; Poster for Latinas ages 12-14 called Hot-Air Balloon; Activity book for Latinas ages 9-11; Activity book for Latinas ages 12-14; Book of advice for mothers of Latinas ages 9-14; Brochure for mothers of Latinas ages 9-14.

The data collection plans include a survey of girls, a survey of mothers/caregivers, and in-depth interviews with representatives of schools or organizations that run programs based on the materials. The findings will be employed by SAMHSA's Center for Substance Abuse Prevention (CSAP) to assess the effectiveness of the materials in helping young girls: to know themselves better; to develop a better appreciation for their heritage; to learn to make positive, healthy decisions for their future; and to enhance their confidence in their power to shape their lives. This information will be instrumental in highlighting areas that should be addressed in future CSAP prevention/education materials targeting Hispanic/Latino audiences.

The adequacy of the prevention messages will be assessed by collecting data on five major areas: (1) The degree to which the materials help girls get to know themselves better and to become comfortable with who they are; (2) the degree to which the materials help girls gain appreciation of their heritage; (3) the degree to which the materials increase awareness in girls of their ability to make sound decisions and plan for the future; (4) the quality of the materials (clarity of the messages, cultural adequacy, and attractiveness of the materials); and (5) whether there are aspects to be modified and/or enhanced in the development of future materials focusing substance use/abuse targeted to Hispanic/Latino audiences. The survey study population will be composed of girls aged 9-14 who have obtained the materials from NCADI via their schools. A separate survey will target mothers of girls ages 9-14 who ordered materials through NCADI. The in-depth interview study population is composed of youth leaders/mentors who deliver the materials and related programs to girls.

The following table presents the response burden for this project.

| No. of Respondents | Responses/respondent | Hours/response | Total burden (hours)
Survey of Girls Ages 9-14 | 900 | 1 | .25 | 225
Survey of Mothers/Caregivers | 500 | 1 | .25 | 125
In-Depth Interviews—Youth Leaders/Mentors | 5 | 1 | 4.0 | 20
In-depth Interviews—Girls | 20 | 1 | .75 | 15
Total | 1,425 |  |  | 385

Send comments to Nancy Pearce, SAMHSA Reports Clearance Officer, Room 16-105, Parklawn Building, 5600 Fishers Lane, Rockville, MD 20857. Written comments should be received within 60 days of this notice.

Dated: May 15, 2002.
Richard Kopanda,
Executive Officer, SAMHSA.

[FR Doc. 02-12775 Filed 5-21-02; 8:45 am]

BILLING CODE 4162-20-P